DEPARTMENT OF HOMELAND SECURITY

Federal Emergency Management Agency

[Docket ID FEMA-2014-0002; Internal Agency Docket No. FEMA-B-1445]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 2, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1445, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: October 9, 2014.
Roy E. Wright,
Deputy Associate Administrator for Mitigation, Department of Homeland Security, Federal Emergency Management Agency.

Community | Community map repository address
Navajo County, Arizona, and Incorporated Areas
Maps Available for Inspection Online at: http://www.fema.gov/preliminaryfloodhazarddata
City of Winslow | Community Development Department, 21 North Williamson Avenue, Winslow, AZ 86047.
Unincorporated Areas of Navajo County | Navajo County Flood Control, 100 East Code Talkers Drive, Holbrook, AZ 86025.
Amador County, California, and Incorporated Areas
Maps Available for Inspection Online at: http://www.fema.gov/preliminaryfloodhazarddata
City of Ione | Department of Public Works, 1 East Main Street, Ione, CA 95640.
Unincorporated Areas of Amador County | Amador County Department of Public Works, 810 Court Street, Jackson, CA 95642.
Fresno County, California, and Incorporated Areas
Maps Available for Inspection Online at: http://www.fema.gov/preliminaryfloodhazarddata
Unincorporated Areas of Fresno County | Fresno County Recorder's Office, 2281 Tulare Street, Room 302, Fresno, CA 93721.
Cumberland County, North Carolina, and Incorporated Areas
Maps Available for Inspection Online at: http://www.fema.gov/preliminaryfloodhazarddata
Unincorporated Areas of Cumberland County | Cumberland County Mapping Department, 117 Dick Street, Fayetteville, NC 28301.
Durham County, North Carolina, and Incorporated Areas
Maps Available for Inspection Online at: http://www.fema.gov/preliminaryfloodhazarddata
Unincorporated Areas of Durham County | Durham County Stormwater Services Division, 101 City Hall Plaza, Durham, NC 27701.
Guilford County, North Carolina, and Incorporated Areas
Maps Available for Inspection Online at: http://www.fema.gov/preliminaryfloodhazarddata
Unincorporated Areas of Guilford County | Guilford County Planning Department, 400 West Market Street, Greensboro, NC 27402.
Johnston County, North Carolina, and Incorporated Areas
Maps Available for Inspection Online at: http://www.fema.gov/preliminaryfloodhazarddata
Town of Clayton | Town Hall, 111 East 2nd Street, Clayton, NC 27520.
Town of Four Oaks | Town Hall, 304 North Main Street, Four Oaks, NC 27524.
Town of Pine Level | Town Hall, 214 North Peedin Avenue, Pine Level, NC 27568.
Town of Princeton | Princeton Public Utilities Office, 309 East Market Street, Smithfield, NC 27577.
Town of Selma | Planning Department, 100 North Raiford Street, Selma, NC 27576.
Town of Smithfield | Town Hall, 350 East Market Street, Smithfield, NC 27577.
Town of Wilson's Mills | Town Hall, 105 Railroad Street, Wilson's Mills, NC 27593.
Unincorporated Areas of Johnston County | Johnston County Planning Department, 300 East Market Street, Smithfield, NC 27577.
Lee County, North Carolina, and Incorporated Areas
Maps Available for Inspection Online at: http://www.fema.gov/preliminaryfloodhazarddata
Unincorporated Areas of Lee County | Lee County Planning Department, 900 Woodland Avenue, Sanford, NC 27331.
Wayne County, North Carolina, and Incorporated Areas
Maps Available for Inspection Online at: http://www.fema.gov/preliminaryfloodhazarddata
City of Goldsboro | City Hall, 222 North Center Street, Goldsboro, NC 27530.
Town of Fremont | Town Hall, 120 East Main Street, Fremont, NC 27830.
Town of Mount Olive | Town Hall, 114 East James Street, Mount Olive, NC 28365.
Town of Pikeville | Town Hall, 112 Southwest Railroad Street, Pikeville, NC 27863.
Unincorporated Areas of Wayne County | Wayne County Manager's Office, 224 East Walnut Street, Goldsboro, NC 27533.
Village of Walnut Creek | Walnut Creek Village Hall, 100 Village Drive, Goldsboro, NC 27532.
Dorchester County, South Carolina, and Incorporated Areas
Maps Available for Inspection Online at: www.fema.gov/preliminaryfloodhazarddata
Town of Harleyville | Town Hall, 119 South Railroad Avenue, Harleyville, SC 29448.
Town of Reevesville | Town Hall, 6800 Johnston Avenue, Reevesville, SC 29471.
Town of Ridgeville | Town Hall, 105 School Street, Ridgeville, SC 29472.
Town of St. George | Town Hall, 305 Ridge Street, St. George, SC 29477.
Town of Summerville | Engineering Department, 200 South Main Street, Summerville, SC 29483.
Unincorporated Areas of Dorchester County | County Building, 2120 East Main Street, Dorchester, SC 29437.
Hamilton County, Tennessee, and Incorporated Areas
Maps Available for Inspection Online at: http://www.fema.gov/preliminaryfloodhazarddata
City of Chattanooga | City of Chattanooga Planning Department, 1250 Market Street, Suite 1000, Chattanooga, TN 37402.
City of Collegedale | Collegedale City Hall, 4910 Swinyar Drive, Collegedale, TN 37315.
City of East Ridge | East Ridge City Hall, Inspections Department, 1517 Tombras Avenue, East Ridge, TN 37412.
Unincorporated Areas of Hamilton County | Hamilton County Regional Planning Department, 1250 Market Street, Suite 3050, Chattanooga, TN 37402.

[FR Doc. 2014-25980 Filed 10-31-14; 8:45 am]

BILLING CODE 9110-12-P